DEPARTMENT OF TRANSPORTATION

[Docket: OST-2008-0244]

Office of Small and Disadvantaged Business Utilization (OSDBU): Notice of Request for Renewal of Short Term Lending Program—Application for New Loan Guarantee and Application for Loan Guarantee Renewal

AGENCY: Office of the Secretary, DOT.

ACTION: Notice and request for comments.

SUMMARY: In compliance with the Paperwork Reduction Act of 1995, Public Law 104-13, (44 U.S.C. 3501 et seq.) this notice announces that the Information Collection Request, abstracted below, is being forwarded to the Office of Management and Budget for Short Term Lending Program—Application for Loan Guarantee of currently approved. Earlier, a Federal Register Notice with a 60-day comment period was published October 10, 2008, (DOT-OST 2008-0244). The agency did not receive any comments to its previous notice.

DATES: Written comments should be submitted by January 7, 2009, and sent to OMB: Attention DOT/OST Desk Officer, Office of Information and Regulatory Affairs, Office of Management and Budget, Docket Library, Room 10102, 725 17th Street, NW., Washington, DC 20503 or oira_submission@omb.eop.gov (e-mail).

FOR FURTHER INFORMATION CONTACT: Nancy Strine, Manager Financial Assistance Division, Office of Small and Disadvantaged Business Utilization, Office of the Secretary, U.S. Department of Transportation, 1200 New Jersey Avenue, SE., Room W56-497, Washington, DC 20590. Phone number (202) 366-1930, fax number (202) 366-7228. Office hours are from 8:30 a.m. to 5 p.m., Monday through Friday, except Federal holidays.

Comments: Comments should be sent to OMB at the address that appears below and should identify the associated OMB Approval Number 2105-0555 and Docket OST-2008-0244.

SUPPLEMENTARY INFORMATION: Number of Respondents: 100.

Number of Responses: Once.

Total Annual Burden: 4525 hours.

Respondents: Certified Disadvantaged Business Enterprises (DBEs) and other Certified Small Businesses (8a, women-owned, small disadvantaged, HubZone, veteran owned, and service disabled veteran owned) interested in financing their transportation-related contracts.

Form: Short-Term Lending Program Application for New Loan Guarantee DOT 2301-1(REV.1): A potential STLP participant must submit a guaranteed loan application package, comprised of a loan application, with supporting documentation. The application may be obtained directly from OSDBU, from a current PL, or online from the agency's Web site currently at http://osdbu.dot.gov/documents/pdf/stlp/stlpapp.pdf.

Respondents: 100.

Frequency: Once.

Estimated Average Burden per Response: 2 hours.

Estimated Total Annual Burden Hours: 200 hours.

New loan application supporting documentation may include, but is not limited to, the following items:

a. Business, trade or job performance reference letters;

b. DBE or other eligible certification letters;

c. Signed and dated borrower certification that all federal, state and local taxes are current;

d. Business tax returns;

e. Business financial statements;

f. Personal income tax returns;

g. Personal financial statements;

h. Schedule of work in progress;

i. Signed and dated copy of transportation-related contracts to be used as collateral;

j. Business debt schedule;

k. Cash flow projections;

l. Evidence of bonding and insurance.

Respondents: 100.

Frequency: Once.

Estimated Average Burden per Response: 12 hours.

Estimated Total Annual Burden Hours: 1200 hours.

Form: Short-Term Lending Program Application for Loan Guarantee Renewal DOT 2302-1. A current STLP participant may submit a guaranteed loan renewal application package, comprised of an updated loan application, with supporting documentation. The application may be obtained directly from OSDBU, from a current PL, or online from the agency's Web site currently at http://osdbu.dot.gov/documents/pdf/stlp/stlpapp.pdf.

Respondents: 100.

Frequency: Annually, up to five years.

Estimated Average Burden per Response: 1 hour.

Estimated Total Annual Burden Hours: 100 hours.

Application supporting documentation. Supporting documentation may include, but is not limited to, the following items:

a. Current job performance reference letter (within the past 12 months);

b. Evidence of current DBE and/or other eligible certification;

c. Business tax returns for the most recent fiscal year;

d. Business financial statements for the most recent fiscal year;

e. If the business' last fiscal year has ended longer than 90 days at the time of application, then applicant must submit interim business financial statements to include balance sheet, P&L and updated aging reports of both receivables and payables;

f. Current work in progress schedule or statement;

g. Personal income tax returns;

h. Personal financial statements;

i. Signed and dated copy of transportation-related contracts to be used as collateral;

j. Updated cash flow projections;

Respondents: 100.

Frequency: Annually, up to five years.

Estimated Average Burden per Response: 4 hours.

Estimated Total Annual Burden Hours: 400 hours.

Respondents: Participating Lenders that are in the process or have entered into cooperative agreements with DOT's OSDBU under the STLP's governing policies and procedures and Proposed Short Term Lending Program Regulations.

Form: Short-term Lending Program Bank Verification Loan Activation Form DOT F 2303-1. The PL Respondent must submit to OSDBU a Loan Activation Form that indicates the date in which the loan has been activated/funded.

Respondents: 100.

Frequency: Annually, up to five years.

Estimated Average Burden per Response: ½ hour.

Estimated Total Annual Burden Hours: 50 hours.

Form: Short-Term Lending Program Bank Verification Extension Request Form DOT 2310-1. An extension of the original loan guarantee for a maximum period of ninety (90) days may be requested, in writing, by the PL Respondent using the STLP Extension Request Form.

Respondents: 100.

Frequency: Annually, up to five years.

Estimated Average Burden per Response: ½ hour.

Estimated Total Annual Burden Hours: 50 hours.

Form: Short-Term Lending Program Bank Acknowledgement Loan Close-Out Form DOT F 2304-1. The PL Respondent must submit to OSDBU a Loan Close-out Form upon full repayment of the STLP loan, or upon expiration of the loan guarantee.

Respondents: 100.

Frequency: Annually, up to five years.

Estimated Average Burden per Response: ½ hour.

Estimated Total Annual Burden Hours: 50 hours.

Form: Guarantee Pending Loan Status Report Form DOT F 2306-1. PL Respondent must submit each month to OSDBU a status report of pending loans and guaranteed loans including the previous month's activity for these loans.

Respondents: 100.

Frequency: Monthly.

Estimated Average Burden per Response: 1 hour.

Estimated Total Annual Burden Hours: 1200 hours.

Form: Guarantee Loan Status Report DOT F 2305-1. PL Respondent must submit each month to OSDBU a status report of pending loans and guaranteed loans including the previous month's activity for these loans.

Respondents: 100.

Frequency: Monthly.

Estimated Average Burden per Response: 1 hour.

Estimated Total Annual Burden Hours: 1200 hours.

Form: Drug-Free Workplace Act Certification for a Grantee Other than an Individual Form DOT F 2307-1, to certify that the PL Respondent is a drug-free workplace by executing a Certification of Compliance concerning a drug-free workplace.

Respondents: 100.

Frequency: Once.

Estimated Average Burden per Response: 15 minutes.

Estimated Total Annual Burden Hours: 25 hours.

Form: Certification Regarding Lobbying for Contracts Grants, Loans, and Cooperative Agreement Form DOT F 2308-1. PL Respondent must certify that no Federal funds will be utilized for lobbying by executing a Certificate Regarding Lobbying in compliance with Section 1352, Title 21, of the U.S. Code.

Respondents: 100.

Frequency: Once.

Estimated Average Burden per Response: 15 minutes.

Estimated Total Annual Burden Hours: 25 hours.

Form: Certification Regarding Debarment, Suspension Form F 2309-1. The PL Respondent must not currently be debarred or suspended from participation in a government contract or delinquent on a government debt by submitting a current SBA Form 1624 or its equivalent.

Respondents: 100.

Frequency: Once.

Estimated Average Burden per Response: 15 minutes.

Estimated Total Annual Burden Hours: 25 hours.

OMB Approval No. 2105-0555.

Title: Short Term Lending Program Application.

Form No. Short Term Lending Program.

Type Of Review: Renewal.

Abstract: The collection involves the use of the “Short-term Lending Program Application for a New Loan Guarantee” and the “Application for Loan Guarantee Renewal”. The information to be collected will be used to determine the applicant's eligibility and is necessary to approve or deny a loan. We are required to publish this notice in the Federal Register by the Paperwork Reduction Act of 1995. OSDBU's Short-term Lending Program (STLP) offers certified Disadvantaged Business Enterprises (DBEs) and other Certified Small Businesses (8a, women-owned, small disadvantaged, HubZone, veteran owned, and service disabled veteran owned) the opportunity to obtain short-term working capital at variable interest rates for transportation-related projects. The STLP provides up to a 75% guaranteed revolving line of credit for a maximum of $750,000 to finance accounts receivable arising from transportation-related contracts. These loans are provided through banks that serve as STLP Participating Lenders (PL). The term of the line of credit is for one (1) year, which may be renewed up to a total of five (5) years. A potential STLP participant must submit a guaranteed loan application package, comprised of a loan application, with supporting documentation collected from the checklist on page seven (7) of the application. A current STLP participant may submit a guaranteed loan renewal application package, comprised of an updated loan application, with supporting documentation collected from the checklist on page seven (7) of the application. The Short-term Lending Program-Bank Verification Loan Activation Form; Bank Verification Extension Request Form; Bank Acknowledgement Loan Close-Out Form; Guarantee Loan Status Report; Pending Loan Status Report; Drug-Free Workplace Act Certification for a Grantee Other than an Individual; Certification Regarding Lobbying for Contracts Grants, Loans, and Cooperative Agreements; and Certification Regarding Debarment, Suspension are all documents used and required by our Participating Lenders. All the bank documentation is performed by the PLs. As part of the requirements for approval as a PL, banks must submit documentation that demonstrates it is a drug-free workplace by executing a Certification of Compliance concerning a drug-free workplace; that no Federal funds will be utilized for lobbying by executing a Certificate Regarding Lobbying in compliance with Section 1352, Title 21, of the U.S. Code; that it is not currently debarred or suspended from participation in a government contract or delinquent on a government debt by submitting a current SBA Form 1624 or its equivalent. The STLP is subject to the requirements of the Federal Credit Reform Act of 1990 (FCRA) that includes certain budgeting and accounting requirements for Federal credit programs. The PL must undertake processes to activate, monitor, service and close-out STLP loans. To fulfill the requirements of FCRA, the PL shall retain all documents, files, books, and records relevant to the administration of an STLP loan and must submit regular reports and required documentation to OSDBU on these processes. All information collected from the respondents on the Short-Term Lending Online Program Application for a New Loan Guarantee and the Application for Loan Guarantee Renewal is covered under the privacy act.

Comments are invited on: (a) Whether the proposed collection of information is necessary for the proper performance of the functions of the Department, including whether the information will have practical utility; (b) the accuracy of the Departments estimate of the burden of the proposed information collection; (c) ways to enhance the quality, utility and clarity of the information collection; and d) ways to minimize the burden of the collection of information on respondents, by the use of electronic means, including the use of automated collection techniques or other forms of information technology.

All responses to this notice will be summarized and included in the request for OMB approval. All comments will also become a matter of public record.

Issued in Washington, DC, on December 1, 2008.
Tracey M. Jackson,
Office of the Chief Information Officer.

[FR Doc. E8-28919 Filed 12-5-08; 8:45 am]

BILLING CODE 4910-9X-P